DEPARTMENT OF HOUSING AND URBAN DEVELOPMENT

[Docket No. FR-5921-N-06]

The Privacy Act of 1974, as Amended; System of Records Notice Amendment, Freedom of Information Act, Privacy Act, and Administrative Appeals Request Files, System of Records

AGENCY: Office of Administration, HUD.

ACTION: System of records notice amendment.

SUMMARY: In accordance with the requirements of the Privacy Act of 1974, as amended, 5 U.S.C. 552a, the Department's Office of the Executive Secretariat proposes to update and reissue a current system of records notice (SORN): Freedom of Information Act (FOIA), Privacy Act, and Administrative Appeals Request Files, ADMIN/AHFDC.01. This SORN was previously titled “Privacy Act and Appeals Request Files,” CIO/QMPP.01, and published at 79 FR 44854-55 (August 1, 2014). This amendment consolidates under one notice FOIA, Privacy Act, and administrative appeals procedures for requests and disclosures and updates the SORN, categories of individuals covered, categories of records, authority for maintenance, routine uses, storage, safeguards, retention and disposal, system manager and address, notification procedures, records access, contesting records procedures, and records source categories to indicate that the SORN now includes FOIA-related records. This notice deletes and supersedes SORN CIO/QMPP.01, Privacy Act and Appeals Request Files. This updated publication will be included in the Department's inventory of SORNs. Detailed information pertaining to this amendment appears under the SORN's “Supplementary Information” caption.

DATES:

Effective Date: This notice action shall be effective immediately, with the exception of the new routine uses added to the notice, which will become effective June 27, 2016.

Comments Due Date: June 27, 2016.

ADDRESSES: Interested persons are invited to submit comments regarding this notice to the Rules Docket Clerk, Office of General Counsel, Department of Housing and Urban Development, 451 Seventh Street SW., Room 10276, Washington, DC 20410-0500. Communications should refer to the above docket number and title. Faxed comments are not accepted. A copy of each communication submitted will be available for public inspection and copying between 8 a.m. and 5 p.m. weekdays at the above address.

FOR FURTHER INFORMATION CONTACT: Frieda B. Edwards, Acting Chief Privacy Officer, 451 Seventh Street SW., Room 10139, Washington, DC 20410, telephone number 202-402-6828 (this is not a toll-free number). Individuals who are hearing- and speech-impaired may access this number via TTY by calling the Federal Relay Service at 800-877-8339 (this is a toll-free number).

SUPPLEMENTARY INFORMATION: This SORN is being updated to encompass activities and procedures related to the Department's processing of FOIA, Privacy Act, and administrative appeals requests. The Department's Office of the Executive Secretariat consolidates under one notice processing activities related to FOIA, Privacy Act, and administrative appeals requests received or issued by the Department. The revised notice conveys subsequent updates to the system's title, categories of individuals covered, categories of records, authority for maintenance, routine uses, storage, safeguards, retention and disposal, system manager and address, notification procedures, records access and contesting procedures, and records source captions to identify that the updated notice now includes information related to FOIA requests. In addition, this notice identifies new disclosure requirements related to FOIA, by adding routine use (6) to clarify that records may be provided from this SORN to the National Archives and Records Administration (NARA), Office of Government Information Services (OGIS) for purposes set forth under 5 U.S.C. 552(h)(2)(A-B) and (3). Publication of this notice allows the Department to provide up-to-date information about its systems of records in a clear and cohesive format. The revised system of records incorporates Federal Privacy Act, FOIA, and HUD policy requirements. The Privacy Act places on Federal agencies principal responsibility for compliance with its provisions, by requiring Federal agencies to safeguard an individual's records against an invasion of personal privacy; protect the records contained in an agency system of records from unauthorized disclosure; ensure that the records collected are relevant, necessary, current, and collected only for their intended use; and adequately safeguard the records to prevent misuse of such information. In addition, this notice demonstrates the Department's focus on industry best practices and laws that protect interest such as personal privacy and law enforcement records from inappropriate release. This notice states the name and location of the record system, the authority for and manner of its operations, the categories of individuals that it covers, the type of records that it contains, the sources of the information for the records, the routine uses made of the records, and the types of exemptions in place for the records. The notice also includes the business address of the HUD officials who will inform interested persons of how they may gain access to and/or request amendments to records pertaining to themselves.

Pursuant to the Privacy Act and the Office of Management and Budget (OMB) guidelines, a report of the amended system of records was submitted to OMB, the Senate Committee on Homeland Security and Governmental Affairs, and the House Committee on Oversight and Government Reform, as instructed by paragraph 4c of Appendix l to OMB Circular No. A-130, “Federal Agencies Responsibilities for Maintaining Records About Individuals,” November 28, 2000.

Authority: 5 U.S.C. 552a; 88 Stat. 1896; 42 U.S.C. 3535(d).

Dated: April 28, 2016.
Patricia A. Hoban-Moore,
Senior Agency Official for Privacy.

ADMIN/AHFDC.01

SYSTEM NAME:

Freedom of Information Act, Privacy Act, and Administrative Appeals Request Files.

SYSTEM LOCATION:

The system is physically located at the Department of Housing and Urban Development, Office of the Executive Secretariat, 451 Seventh Street SW., Washington, DC 20410; at the service providers under contract with HUD, and at HUD regional and field offices ¹ where, in some cases, FOIA and Privacy Act records may be maintained or accessed.

¹ http://portal.hud.gov/hudportal/HUD?src=/localoffices.

CATEGORIES OF INDIVIDUALS COVERED BY THE SYSTEM:

This system encompasses all individuals who submit FOIA and/or Privacy Act requests or administrative appeals to the Department. Other individuals covered by the system include HUD staff assigned to process a request and staff that may have responsive records or are mentioned in such records. Note: FOIA requests are subject to the Privacy Act only to the extent that the information pertains to personal information concerning an individual (i.e., only the information that is personal about the individual who is the subject of the record is subject to the Privacy Act). Information pertaining to corporations, businesses, and organizations are not subject to the Privacy Act.

CATEGORIES OF RECORDS IN THE SYSTEM:

Records in this system may include information about the handling of FOIA and Privacy Act requests and administrative appeals. The information maintained by the system may include: (1) Records received, copied, created, or compiled during the search and processing of initial requests and administrative appeals; (2) fee schedules, cost calculations, and costs assessed for processing FOIA requests (disclosed FOIA records—cost can be incurred even for records that are not provided to requesters); (3) appeals, intra-agency or interagency memorandums, and correspondence with the requesters or entities who submitted the requests and appeals; (4) the Department's responses and transferals to HUD regional/field offices or other agencies; (5) copies of records disclosed or withheld; (6) requesters' names, organizations, titles, addresses, emails, telephone numbers, fax numbers, Social Security numbers (which may be submitted with documentation or as proof of identification when requesting access to Privacy Act records); (7) information compiled on and about the parties who made written requests or appeals, including individuals on whose behalf such written requests or appeals were made; (8) FOIA tracking numbers; (9) descriptions of the types of requests or appeals, and dates the requests or appeals were received by the Department; (10) statuses of Department responses (i.e., the offices to which the requests were assigned, the dates by which responses to assigned request are due, the current dispositions of the requests); (11) and may include the requester's original Privacy Act/FOIA requests. The system also includes information on the Department personnel involved in the processing of FOIA and/or Privacy Act requests and appeals (e.g., FOIA staff and/or Privacy Act staff, appeals officials, and members of the Office of General Counsel staff) who respond to requests or appeals and process any final dispositions. The system also covers records related to requests for OGIS assistance.

AUTHORITY FOR MAINTNENACE OF THE SYSTEM:

Freedom of Information Act, as amended, 5 U.S.C 552; Privacy Act, as amended, 5 U.S.C. 552a.

PURPOSE(S):

The purpose of the information maintained by the system is to allow the Department to effectively monitor and track FOIA and Privacy Act requests, and administrative appeals received or issued by the Department. The information gathered by the system is used by the Department to satisfy its annual reporting obligations under the FOIA, manage FOIA-related fees and calculations, and respond to FOIA and Privacy Act requests and appeals.

ROUTINE USES OF RECORDS MAINTAINED IN THE SYSTEM, INCLUDING CATEGORIES OF USERS AND THE PURPOSES OF SUCH USES:

Records from this system may be disclosed for routine uses to:

1. A congressional office from the record of an individual, in response to a verified inquiry from the congressional office made at the request of that individual.

2. The Department of Justice for the purpose of obtaining advice regarding whether or not the records should be disclosed, when applicable.

3. Student volunteers, individuals working under a personal services contract, and other individuals performing functions for the Department, but technically not having the status of agency employees, if they need access to the records in order to perform their assigned agency functions.

4. Contractors, grantees, experts, consultants and their agents, or others performing or working under a contract, service, grant, or cooperative agreement with HUD, when necessary to accomplish the agency function related to a system of records. Disclosure requirements are limited to only those data elements considered relevant to accomplishing an agency function. Individuals provided information under this routine use conditions are subject to the Privacy Act requirements and disclosure limitations imposed on the Department.

5. Appropriate agencies, entities, and persons to the extent such disclosures are compatible with the purpose for which the records in this system were collected, as set forth by Appendix I, HUD's Routine Use Inventory notice ² published in the Federal Register.

² http://portal.hud.gov/hudportal/documents/huddoc?id=routine_use_inventory.pdf.

6. The National Archives and Records Administration, OGIS, to the extent necessary to allow OGIS to fulfill its responsibilities under 5 U.S.C. 552(h) to review administrative agency policies, procedures, and compliance with the FOIA, and to offer mediation services to resolve disputes between persons making FOIA requests and administrative agencies.

7. To appropriate agencies, entities, and persons when:

(a) HUD suspects or has confirmed that the security or confidentiality of information in a system of records has been compromised;

(b) HUD has determined that as a result of the suspected or confirmed compromise, there is a risk of harm to economic or property interests, identity theft or fraud, or harm to the security or integrity of systems or programs (whether maintained by HUD or another agency or entity) that rely upon the compromised information; and

(c) The disclosure made to such agencies, entities, and persons is reasonably necessary to assist in connection with HUD's efforts to respond to the suspected or confirmed compromise and prevent, minimize, or remedy such harm for purposes of facilitating responses and remediation efforts in the event of a data breach.

POLICIES AND PRACTICES FOR STORING, RETRIEVING, ACCESSING, RETAINING, AND DISPOSING OF RECORDS IN THE SYSTEM

STORAGE:

The originals, or a copy, of the incoming requests and the written responses are maintained in case file folders and stored in metal file cabinets. Cross-reference data is maintained electronically and on CD-ROM.

RETRIEVABILITY:

Electronic and paper records are almost always retrieved by the name of the individual who made the request, the FOIA control number, or the subject of the request.

SAFEGUARDS:

(1) Access Safeguards: Record access is restricted to FOIA and Privacy Act staff, involved program officials, appeals officials, and Office of General Counsel staff involved in the processing of such requests; (2) Physical Safeguards: Case file folders are stored in file cabinets located in secure areas that are either occupied by staff involved in processing FOIA and Privacy Act requests and administrative appeals or locked up during nonworking hours or whenever staff is not present in these areas, and entrance to the buildings where case files are maintained is controlled by security guards; (3) Logical Access: Records in the system are maintained in a secure area with access restricted to authorized personnel, security and hardware storage of backup material (e.g., disk, tape, CD-ROM) are secured in accordance with HUD-wide guidance for handling and securing information systems and cross-reference data is maintained electronically and access to the records is granted by User ID and password; and (4) Procedural Safeguards: Access to the systems records is limited to those staff members who are familiar with FOIA- and Privacy Act-related requests and who have a need to know. System managers are held responsible for safeguarding the records that are under their control.

RETENTION AND DISPOSAL:

Computer and paper records will be maintained and disposed of in accordance with published NARA Transmittal No. 22, General Records Schedule 14, “Information Services Records”.³ Paper records will be destroyed by shredding or burning. Electronic records will be destroyed pursuant to NIST Special Publication 800-88, “Guidelines for Media Sanitization.”

³ http://www.archives.gov/records-mgmt/grs/grs14.html.

SYSTEM MANAGER(S) AND ADDRESS:

Frieda B. Edwards, Acting Chief Privacy Officer, 451 Seventh Street SW., Room 10139, Washington, DC 20410, telephone number 202-402-6828 (this is not a toll-free number) (refer to the SORN's location caption for additional locations where Privacy Act records are accessed and maintained).

NOTIFICATION AND ACCESS PROCEDURES:

For Information, assistance, or inquiries about the existence of records, contact Frieda B. Edwards, Acting Chief Privacy Officer, 451 Seventh Street SW., Room 10139, Washington, DC 20410, telephone number 202-402-6828 (this is not a toll-free number). When seeking records about yourself from this system of records or any other HUD system of records, your request must conform with the Privacy Act regulations set forth in 24 CFR part 16 “Procedures for Inquiries”. You must first verify your identity by providing your full name, current address, and date and place of birth. You must sign your request, and your signature must either be notarized or submitted under 28 U.S.C. 1746, a law that permits statements to be made under penalty of perjury as a substitute for notarization. In addition, your request should:

(1) Explain why you believe HUD would have information on you.

(2) Identify which HUD office you believe has the records about you.

(3) Specify when you believe the records would have been created.

(4) Provide any other information that will help the FOIA staff determine which HUD office may have responsive records.

If you are seeking records pertaining to another living individual, you must obtain a statement from that individual certifying their agreement for you to access their records. Without the above information, the HUD Office may not be able to conduct an effective search, and your request may be denied due to lack of specificity or lack of compliance with applicable regulations.

CONTESTING RECORDS PROCEDURES:

The Department's rules for contesting contents of records and appealing initial denials appear in 24 CFR part 16, “Procedures for Inquiries.” Additional assistance may be obtained by contacting Frieda B. Edwards, Acting Chief Privacy Officer, 451 Seventh Street SW., Room 10139, Washington, DC 20410, or the HUD Departmental Privacy Appeals Officer, Office of General Counsel, Department of Housing and Urban Development, 451 Seventh Street SW., Room 10110, Washington, DC 20410.

RECORD SOURCE CATEGORIES:

The source of information is from the individuals making a FOIA request or a request for Privacy Act records, and components of the Department and other agencies that search for and provide records and related correspondence maintained in the case files.

SYSTEMS EXEMPTED FROM CERTAIN PROVISIONS OF THE ACT:

Pursuant to 5 U.S.C. 552a(k)(2), records in this system, which reflect records that are contained in other systems of records that are designated as exempt, are exempt from the requirements of subsections (c)(3), (d), (e)(1), (e)(4)(G), (H), (I), and (f) of 5 U.S.C. 552a. These exemptions apply only to the extent that information in the system is subject to an exemption pursuant to 5 U.S.C. 552a (k)(2) or a rule promulgated concerning the exemption of such records.

[FR Doc. 2016-12600 Filed 5-26-16; 8:45 am]

BILLING CODE 4210-67-P